FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011794-015.

Title: COSCON/KL/YMUK/Hanjin Worldwide Slot Allocation & Sailing Agreement.

Parties: COSCO Container Lines Company, Limited; Hanjin Shipping Co., Ltd.; Kawasaki Kisen Kaisha, Ltd.; and Yangming (UK) Ltd.

Filing Party: Susannah K. Keagle; Nixon Peabody LLP; 555 West Fifth Street, 46th Floor; Los Angeles, CA 90013.

Synopsis: The amendment sets a maximum number of vessels the parties may deploy in the U.S. trades.

Agreement No.: 012120-001.

Title: CSAV/Liberty Turkey Space Charter Agreement.

Parties: Compana Sud Americana de Vapores S.A. and Liberty Global Logistics LLC.

Filing Party: Walter H. Lion, Esq.; McLaughlin & Stern, LLP; 260 Madison Avenue; New York, NY 10016.

Synopsis: The amendment clarifies the number of units CSAV agrees to ship on Liberty's vessels.

By Order of the Federal Maritime Commission.
Dated: April 22, 2011.
Karen V. Gregory,
Secretary.

[FR Doc. 2011-10165 Filed 4-26-11; 8:45 am]

BILLING CODE 6730-01-P